DEPARTMENT OF COMMERCE

National Oceanic and Atmospheric Administration

RIN 0648-XC50

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Ad Hoc Grouper Individual Fishing Quota (IFQ) Advisory Panel (AHGIFQAP).

DATES: The AHGIFQAP meeting will convene at 1 p.m. on Monday, October 1, 2007 and conclude no later than 3 p.m. on Tuesday, October 2, 2007.

ADDRESSES: The meeting will be held at the Hilton St. Petersburg, 333 First Street South, St. Petersburg, FL 33701; telephone 727-894-5000.

Council address: Gulf of Mexico Fishery Management Council, 2203 North Lois Avenue, Suite 1100, Tampa, FL 33607.

FOR FURTHER INFORMATION CONTACT: Stu Kennedy, Fishery Biologist, telephone: (813) 348-1630.

SUPPLEMENTARY INFORMATION: The Gulf of Mexico Fishery Management Council has scheduled a meeting of the Ad Hoc Grouper IFQ Advisory Panel to discuss the scoping document for Amendment 29 to the Reef Fish Fishery Management Plan. Amendment 29 has alternatives for rationalizing effort and reducing overcapacity in the commercial Gulf of Mexico grouper fishery, including elimination of latent permits, a buyout or buyback program, permit endorsements, and Individual fishing quotas, and Individual transferable effort quotas.

Although other non-emergency issues not on the agenda may come before the AHGIFQAP for discussion, in accordance with the Magnuson-Stevens Fishery Conservation and Management Act (Magnuson-Stevens Act), those issues may not be the subject of formal action during these meetings. Actions of the AHGIFQAP will be restricted to those issues specifically identified in the agenda and any issues arising after publication of this notice that require emergency action under Section 305(c) of the Magnuson-Stevens Act, provided the public has been notified of the Council's intent to take action to address the emergency.

Copies of the agenda can be obtained by calling (813) 348-1630.

Special Accommodations

This meeting is physically accessible to people with disabilities. Requests for sign language interpretation or other auxiliary aids should be directed to Tina Trezza at the Council (see ADDRESSES) at least 5 working days prior to the meeting.

Dated: September 7, 2007.
Tracey L. Thompson,
Acting Director, Office of Sustainable Fisheries, National Marine Fisheries Service.

[FR Doc. E7-17949 Filed 9-11-07; 8:45 am]

BILLING CODE 3510-22-S